DEPARTMENT OF ENERGY

Federal Energy Regulatory Commission

[Docket No. EG10-17-000]

Uilk Wind Farm, LLC; Notice of Effectiveness of Exempt Wholesale Generator Status

April 9, 2010.

Take notice that during the month March, 2010, the status of the above-captioned entities as Exempt Wholesale Generators became effective by operation of the Commission's regulations 18 CFR 366.7(a).

Kimberly D. Bose,
Secretary.

[FR Doc. 2010-8702 Filed 4-15-10; 8:45 am]

BILLING CODE 6717-01-P